DEPARTMENT OF HOMELAND SECURITY

Federal Emergency Management Agency

[Docket ID FEMA-2017-0002; Internal Agency Docket No. FEMA-B-1769]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 13, 2018.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1769, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Dated: November 29, 2017.
Roy E. Wright,
Deputy Associate Administrator for Insurance and Mitigation, Department of Homeland Security, Federal Emergency Management Agency.

Community | Community map repository address
Hughes County, Oklahoma and Incorporated Areas
Project: 11-06-2177S Preliminary Date: April 29, 2016
City of Holdenville | City Hall, 100 North Creek Street, Holdenville, OK 74848.
City of Wetumka | City Hall, 202 North Main Street, Wetumka, OK 74883.
Town of Allen | Town Hall, 216 East Broadway Street, Allen, OK 74825.
Town of Atwood | Hughes County Emergency Management Director's Office, 200 North Broadway Street, Holdenville, OK 74848.
Town of Calvin | Hughes County Emergency Management Director's Office, 200 North Broadway Street, Holdenville, OK 74848.
Town of Dustin | Town Hall, 117 North Broadway Avenue, Dustin, OK 74839.
Town of Horntown | Horntown Fire Department, 3319 Highway 75, Holdenville, OK 74848.
Town of Lamar | Hughes County Emergency Management Director's Office, 200 North Broadway Street, Holdenville, OK 74848.
Town of Spaulding | Hughes County Emergency Management Director's Office, 200 North Broadway Street, Holdenville, OK 74848.
Town of Stuart | Hughes County Emergency Management Director's Office, 200 North Broadway Street, Holdenville, OK 74848.
Unincorporated Areas of Hughes County | Hughes County Emergency Management Director's Office, 200 North Broadway Street, Holdenville, OK 74848.
McIntosh County, Oklahoma and Incorporated Areas
Project: 11-06-2177S Preliminary Date: April 29, 2016
City of Checotah | City Hall, 414 West Gentry Avenue, Checotah, OK 74426.
City of Eufaula | City Hall, 64 Memorial Drive, Eufaula, OK 74432.
Unincorporated Areas of McIntosh County | McIntosh County Clerk's Office, 110 North 1st Street, Eufaula, OK 74432.
Pottawatomie County, Oklahoma and Incorporated Areas
Project: 11-06-2177S Preliminary Date: June 20, 2016
City of McLoud | City Hall, 107 North Main Street, McLoud, OK 74851.
City of Shawnee | City Hall Annex Building, 222 North Broadway Street, Shawnee, OK 74801.
City of Tecumseh | City Hall, 114 North Broadway Street, Tecumseh, OK 74873.
Town of Bethel Acres | Bethel Acres Town Hall, 18101 Bethel Road, Shawnee, OK 74801.
Town of Earlsboro | Town Hall, 110 South Lamar Avenue, Earlsboro, OK 74840.
Town of Johnson | Pottawatomie County Courthouse, 325 North Broadway Street, Shawnee, OK 74801.
Absentee-Shawnee Tribe of Indians of Oklahoma | Absentee Shawnee Tribal Complex, 2025 South Gordon Cooper Drive, Shawnee, OK 74801.
Citizen Potawatomi Nation | Citizen Potawatomi Nation Transportation Building, 405 Transportation Drive, Shawnee, OK 74801.
Kickapoo Tribe of Oklahoma | Kickapoo Tribe of Oklahoma Secondary Administration Building, 400 North Highway 102, McLoud, OK 74851.
Sac and Fox Nation | Sac and Fox Nation Administration Building, 920883 South Highway 99, Building A, Stroud, OK 74079.
Unincorporated Areas of Pottawatomie County | Pottawatomie County Courthouse, 325 North Broadway Street, Shawnee, OK 74801.
Burnet County, Texas and Incorporated Areas
Project: 13-06-0041S Preliminary Date: February 15, 2017 and September 26, 2017
City of Burnet | City Hall, 1001 Buchanan Drive, Suite 4, Burnet, TX 78611.
City of Marble Falls | Development Services Department, 801 4th Street, Marble Falls, TX 78654.
City of Meadowlakes | City Hall, 177 Broadmoor Street, Suite A, Meadowlakes, TX 78654.
Unincorporated Areas of Burnet County | Burnet County Annex, 133 East Jackson Street, Room 107, Burnet, TX 78611.
Williamson County, Texas and Incorporated Areas
Project: 13-06-1181S Preliminary Date: January 30, 2017 and September 26, 2017
City of Austin | Watershed Engineering Division, 505 Barton Springs Road, 12th Floor, Austin, TX 78704.
City of Cedar Park | City Hall, 450 Cypress Creek Road, Building 1, Cedar Park, TX 78613.
City of Coupland | Coupland Fire Station, 403 FM 1466, Coupland, TX 78615.
City of Georgetown | Georgetown Utility Systems, 300-1 Industrial Avenue, Georgetown, TX 78626.
City of Hutto | Department of Public Works, 210 U.S. 79 East, Suite 203, Hutto, TX 78634.
City of Leander | City Hall, 200 West Willis Street, Leander, TX 78641.
City of Round Rock | Utilities and Environmental Services, 2008 Enterprise Drive, Round Rock, TX 78664.
City of Taylor | City Hall, 400 Porter Street, Taylor, TX 76574.
Unincorporated Areas of Williamson County | Williamson County Central Maintenance Facility, 3151 Southeast Inner Loop, Suite B, Georgetown, TX 78626.

[FR Doc. 2017-26805 Filed 12-12-17; 8:45 am]

BILLING CODE 9110-12-P